DEPARTMENT OF HOMELAND SECURITY

Coast Guard

[COTP Los Angeles-Long Beach 05-005]

Letter of Recommendation, Liquefied Natural Gas Facility, Long Beach, CA

AGENCY: Coast Guard, DHS.

ACTION: Notice; public meeting and request for comments.

SUMMARY: The Coast Guard announces that the Captain of the Port (COTP) Los Angeles-Long Beach will hold a public meeting regarding the maritime safety and security aspects of the proposed San Pedro Bay, California liquefied natural gas (LNG) facility. The Coast Guard also requests public comments regarding the maritime safety and security aspects of the aforementioned proposed LNG facility.

DATES: The public meeting will be held on July 11, 2005 at 6 p.m. at the Long Beach Marriott Hotel.

Comments and related material must reach the Commanding Officer, U.S. Coast Guard Sector Los Angeles-Long Beach on or before July 27, 2005.

ADDRESSES: The public meeting will be held at the Long Beach Marriott Hotel, 4700 Airport Plaza Drive, Long Beach, CA 90815.

You may submit written comments identified by Coast Guard docket number (COTP LA-LB 05-005) to Commanding Officer, U.S. Coast Guard Sector Los Angeles-Long Beach, 1001 S. Seaside Ave, San Pedro, CA 90731. To avoid duplication, please use only one of the following methods:

(1) Mail: To the location described in ADDRESSES.

(2) E-mail: To pgooding@d11.uscg.mil.

(3) Fax: 310-732-2029.

FOR FURTHER INFORMATION CONTACT: If you have questions on this notice, contact Lieutenant Peter Gooding, Chief of the Waterways Management Division at Coast Guard Sector Los Angeles-Long Beach, CA at 310-732-2020, or E-mail your questions to pgooding@d11.uscg.mil.

SUPPLEMENTARY INFORMATION:

Request for Comments

We encourage you to submit written comments and related material pertaining specifically to marine safety and security aspects associated with the proposed LNG facility. If you do so, please include your name and address, identify the docket number for this notice (COTP LA-LB 05-005), and give the reason for each comment. To avoid confusion and duplication, please submit your comments and material by only one means.

Submitting Comments: If you submit a comment, please include your name and address, identify the docket number for this noticed (COTP LA-LB 05-005) and give the reason for each comment. You may submit your comments by electronic means, mail to the address under ADDRESSES, or fax; but please submit your comments by only one means. If you submit comments by mail, please submit them in an unbound format, no larger than 8½ by 11 inches, suitable for copying and electronic filing. If you submit them by mail and would like to know that they reached U.S. Coast Guard Sector Los Angeles-Long Beach, please enclose a stamped, self-addressed postcard or envelope. We will consider all comments received during the comment period.

Viewing comments and documents: To view comments, you may visit U.S. Coast Guard Sector Los Angeles-Long Beach at the address under ADDRESSES, between 9 a.m. and 5 p.m., Monday through Friday, except Federal holidays.

Public Meeting

Due to the scope and complexity of this project, we have also decided to hold a public meeting to allow the public the opportunity to comment on the proposed LNG facility. During this public meeting, the Coast Guard will not make a decision concerning the letter of recommendation or about this LNG project. With advance notice, organizations and members of the public may provide oral statements regarding the suitability of the San Pedro Bay for LNG vessel traffic. Time permitting, the Coast Guard will take comments from the public without advance notice. But to ensure an opportunity to speak, you should provide your name in advance. In the interest of time and use of the public meeting facility, oral statements should be limited to five minutes. Persons wishing to make oral statements should notify Lieutenant Peter Gooding using one of the methods listed under FOR FURTHER INFORMATION CONTACT by July 8, 2005. The Coast Guard will accept written statements at the public meeting submitted in conjunction with or in lieu of an oral statement from those persons who have provided advance notice of their desire to make an oral statement at the meeting.

Background and Purpose

In accordance with the requirements contained in 33 CFR Part 127.009, the U.S. Coast Guard Captain of the Port (COTP) Los Angeles-Long Beach is preparing a letter of recommendation as to the suitability of the San Pedro Bay for liquefied natural gas (LNG) marine traffic. In accordance with the requirements of 33 CFR 127.007, Sound Energy Solutions (SES) submitted a letter of intent on April 13, 2005 to build an LNG facility at Pier T126 in Long Beach, CA. SES is a joint venture of Mitsubishi Corporation and ConocoPhillips. SES proposes to build an LNG import, storage, and re-gasification facility. LNG carriers (ships) would berth at pier T126 and LNG would be transferred by pipeline from the carriers to one of two storage tanks, each with a net capacity of 160,000 cubic meters (m3) and a gross capacity of 320,000 m3. The LNG would then be regasified and metered into natural gas pipelines. LNG would be delivered to the terminal in double-hulled LNG carriers ranging in capacity from 125,000 m3 to 160,000 m3. The larger carriers would measure up to approximately 1000 feet long with up to approximately a 158 foot wide beam, and draw 40 feet of water. The terminal would handle approximately 120 vessels per year, depending upon natural gas demand, and carrier size, with shipments arriving approximately every 3 days.

Upon receipt of a letter of intent from an owner or operator intending to build a new LNG facility, the Coast Guard COTP conducts an analysis that results in a letter of recommendation issued to the owner or operator and to the state and local governments having jurisdiction, addressing the suitability of the waterway to accommodate LNG vessels. Specifically, the letter of recommendation addresses the suitability of the waterway based on:

• The physical location and layout of the facility and its berthing and mooring arrangements;

• The LNG vessels' characteristics and the frequency of LNG shipments to the facility;

• Commercial, industrial, environmentally sensitive, and residential areas in and adjacent to the waterway used by the LNG vessels en route to the facility;

• Density and character of marine traffic on the waterway;

• Bridges, or other manmade obstructions in the waterway;

• Depth of water;

• Tidal range;

• Natural hazards, including rocks and sandbars;

• Underwater pipelines and cables;

• Distance of berthed LNG vessels from the channel, and the width of the channel.

In addition, the Coast Guard will review and approve the facility's operations manual and emergency response plan (33 CFR 127.019), as well as the facility's security plan (33 CFR 105.410). The Coast Guard will also provide input to other Federal, State, and local government agencies reviewing the project. Under an interagency agreement the Coast Guard will provide input to, and coordinate with, the Federal Energy Regulatory Commission (FERC), the lead Federal agency for authorizing the siting and construction of onshore LNG facilities, on safety and security aspects of the Sound Energy Solutions project, including both the marine and land-based aspects of the project.

In order to complete a thorough analysis and fulfill the regulatory mandates cited above, the COTP Sector Los Angeles-Long Beach will be conducting a Waterway Suitability Assessment, evaluating various safety and security aspects associated with Sound Energy Solution's proposed project. This risk assessment will be accomplished through a series of workshops focusing on the areas of waterways safety, port security, and consequence management, with involvement from a broad cross-section of government and port stakeholders with expertise in each of the respective areas. The workshops will be by invitation only. However, comments received during the public comment period will be considered as input into the risk assessment process and to FERC's Environmental Impact Statement.

Additional Information

Additional information about the Sound Energy Solutions LNG project is available from FERC's Office of External Affairs at 1-866-208-FERC or on the FERC Internet Web site (http://www.ferc.gov) using their eLibrary link. For assistance, please contact FERC online support at FERCOnlineSupport@ferc.gov or toll free at 1-866-208-3676, or for TTY contact 1-202-502-8659.

Information on Services for Individuals With Disabilities

For information on facilities or services for individuals with disabilities, or to request assistance at the meeting, contact Lieutenant Peter Gooding listed under FOR FURTHER INFORMATION CONTACT as soon as possible.

Dated: June 20, 2005.
Commander David Crowley,
Commander, U.S. Coast Guard, Acting Captain of the Port Los Angeles-Long Beach.

[FR Doc. 05-12732 Filed 6-27-05; 8:45 am]

BILLING CODE 4910-15-P